DEPARTMENT OF COMMERCE

National Oceanic and Atmospheric Administration

50 CFR Parts 224 and 226

RIN 0648-XJ93; RIN 0648-AW77

Endangered and Threatened Species; Proposed Endangered Status for the Gulf of Maine Distinct Population Segment of Atlantic Salmon; Proposed Critical Habitat for the Gulf of Maine Distinct Population Segment of Atlantic Salmon

AGENCY: National Marine Fisheries Service (NMFS), National Oceanic and Atmospheric Administration (NOAA), Commerce.

ACTION: Notice of two public hearings; notice of extension of public comment period.

SUMMARY: We (NMFS) will hold two public hearings in Maine in November 2008 for the purposes of answering questions on the proposal to list the Gulf of Maine (GOM) Atlantic salmon distinct population segment (DPS) as endangered under the Endangered Species Act of 1973, as amended (ESA) and the NMFS proposal to designate critical habitat for the GOM DPS of Atlantic salmon. NMFS also extends the public comment period for the proposed critical habitat designation.

DATES: The hearings will be held on November 5, 2008, from 7 to 9 p.m. in Augusta, ME, and on November 6, 2008, from 7 to 9 p.m. in Brewer, ME. Informational sessions will be held prior to each hearing from 6 to 7 p.m.

NMFS extends the due date for public comments on the proposal to designate critical habitat for the GOM DPS of Atlantic salmon by 30 days, from November 4, 2008, to December 5, 2008. Comments must be received by December 2, 2008, for the proposed rule to list the GOM DPS as endangered under the ESA and December 5, 2008, for the proposal to designate critical habitat for the GOM DPS.

ADDRESSES: The November 5, 2008, hearing will be held at the Augusta Civic Center, 76 Community Dr., Augusta, ME, and the November 6, 2008, hearing will be held at Jeff's Catering, 15 Littlefield Way, Brewer, ME.

You may submit comments, identified by the RIN 0648-XJ93 (proposed listing rule) or RIN 0648-AW77 (proposal to designate critical habitat), by any of the following methods:

• Electronic Submissions: Submit all electronic public comments via the Federal eRulemaking Portal http://www.regulations.gov.

• Mail: Assistant Regional Administrator, NMFS, Northeast Regional Office, Protected Resources Division, One Blackburn Drive, Gloucester, MA 01930

• Fax: For proposed listing decision fax comments to the attention of Jessica Pruden at (978) 281-9394; for proposal to designate critical habitat fax comments to the attention of Dan Kircheis at (207) 866-7342.

Instructions: All comments received are a part of the public record and will generally be posted to http://www.regulations.gov without change. All Personal Identifying Information (for example, name, address, etc.) voluntarily submitted by the commenter may be publicly accessible. Do not submit Confidential Business Information or otherwise sensitive or protected information. We will accept anonymous comments (enter N/A in the required fields, if you wish to remain anonymous). Attachments to electronic comments will be accepted in Microsoft Word, Excel, WordPerfect, or Adobe PDF file formats only. The proposed rule and status review report are also available electronically at the NMFS website at http://www.nero.noaa.gov/prot_res/altsalmon/.

FOR FURTHER INFORMATION CONTACT: For the proposal to list the GOM DPS as endangered, Rory Saunders, NMFS, at (207) 866-4049; or Jessica Pruden, NMFS, at (978) 281-9300 ext. 6532. For the proposal to designate critical habitat for the GOM DPS, Dan Kircheis, NMFS, at (207) 866-7320.

SUPPLEMENTARY INFORMATION:

Background

On September 3, 2008, we published a proposed rule (73 FR 51415) to list an expanded GOM DPS of Atlantic salmon as endangered under the Endangered Species Act of 1973 (ESA), as amended. On September 5, 2008, NMFS published a proposed rule (73 51747) to designate critical habitat for this expanded GOM DPS of Atlantic salmon. We stated that we would hold public hearings on these proposals. NMFS will accept oral comment regarding the proposed listing decision and critical habitat designation for the GOM DPS of Atlantic salmon at two public hearings.

Special Accommodations

These hearings are physically accessible to people with disabilities. Requests for sign language interpretation or other auxiliary aids should be directed to Jessica Pruden at (978) 281-9300 ext 6532 at least 7 working days prior to the hearing date.

Authority: 16 U.S.C. 1531 et seq.

Dated: October 16, 2008.
Helen Golde,
Deputy Director, Office of Protected Resources, National Marine Fisheries Service.

[FR Doc. E8-25076 Filed 10-20-08; 8:45 am]

BILLING CODE 3510-22-S